FEDERAL COMMUNICATIONS COMMISSION

Public Information Collections Approved by Office of Management and Budget

March 19, 2003.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Paul J. Laurenzano, Federal Communications Commission, (202) 418-1359 or via the Internet at plaurenz@fcc.gov.

OMB Control No.: 3060-0715.

OMB Approval and Effective Date of Rules: 02/24/2003.

Expiration Date: 02/28/2006.

Title: Telecommunications Carriers' Use of Customer Proprietary Network Information (CPNI) and Other Customer Information, CC Docket No. 96-115.

Form No.: N/A.

Estimated Annual Burden: 4,832 responses; 672,808 total annual hours; $229,520,000 cost burden; 139.2 hours per respondent.

Needs and Uses: The requirements implement the statutory obligations of section 222 of the Telecommunications Act of 1996. Among other things, carriers are permitted to use, disclose, or permit access to CPNI, without customer approval, under certain conditions.

Many uses of CPNI require either opt-in or opt-out customer approval, depending upon the entity using the CPNI and the purpose for which it is used.

Federal Communications Commission.
Marlene H. Dortch,
Secretary.

[FR Doc. 03-7321 Filed 3-26-03; 8:45 am]

BILLING CODE 6712-01-P